SECURITIES AND EXCHANGE COMMISSION

[Release No. 34-53013A; File No. SR-BSE-2005-49]

Self-Regulatory Organizations; Boston Stock Exchange, Inc.; Notice of Filing and Order Granting Accelerated Approval of a Proposed Rule Change and Amendment No. 1 Thereto Relating to the Market Opening Procedures of the Boston Options Exchange Facility

January 13, 2006.

Correction

In FR Document No. E5-8045, beginning on page 77218 for Thursday, December 29, 2005, the title of the document incorrectly referenced the National Association of Securities Dealers, Inc. instead of the Boston Stock Exchange, Inc. The correct title is as written above.

For the Commission, by the Division of Market Regulation, pursuant to delegated authority.¹
¹ 17 CFR 200.30-3(a)(12).
Nancy M. Morris,
Secretary.

[FR Doc. E6-585 Filed 1-19-06; 8:45 am]

BILLING CODE 8010-01-P